MILLENNIUM CHALLENGE CORPORATION

[MCC FR 23-07]

Notice of Open Meeting

AGENCY: Millennium Challenge Corporation

ACTION: Notice.

SUMMARY: In accordance with the requirements of the Federal Advisory Committee Act, the Millennium Challenge Corporation (MCC) Advisory Council was established as a discretionary advisory committee on July 14, 2016. Its charter was most recently renewed for a fourth term on July 7, 2022. The MCC Advisory Council serves MCC solely in an advisory capacity and provides insight regarding innovations in infrastructure, technology, and sustainability; perceived risks and opportunities in MCC partner countries; new financing mechanisms for developing country contexts; and shared value approaches. The MCC Advisory Council provides a platform for systematic engagement with the private sector and other external stakeholders and contributes to MCC's mission—to reduce poverty through sustainable economic growth.

DATES: Wednesday, October 25, 2023, from 8:30 a.m.-12:00 p.m. EDT.

ADDRESSES: The meeting will be held in a hybrid format, both in-person at 1099 14th Street NW, Suite 700, Washington, DC 20005, and via conference call.

FOR FURTHER INFORMATION CONTACT: Email MCCAdvisoryCouncil@mcc.gov, contact Bahgi Berhane at (202) 772-6362, or visit https://www.mcc.gov/about/org-unit/advisory-council for more information.

SUPPLEMENTARY INFORMATION:

Agenda. During the Fall 2023 meeting of the MCC Advisory Council, members will engage with MCC leadership. Additionally, Advisory Council members will discuss highlights from the Blended Finance/Energy and Climate subcommittee meetings and provide advice on the compact development process related to MCC's investment strategy in Zambia.

Public Participation. The meeting will be open to the public. Members of the public may file written statements before or after the meeting. If you plan to attend, please submit your name and affiliation no later than Friday, October 20, 2023, to MCCAdvisoryCouncil@mcc.gov to receive instructions on how to attend.

(Authority: Federal Advisory Committee Act, 5 U.S.C. app.)

Dated: September 27, 2023.
Gina Porto Spiro
Acting Vice President, General Counsel, and Corporate Secretary.

[FR Doc. 2023-21668 Filed 9-29-23; 8:45 am]

BILLING CODE 9211-03-P